INTERNATIONAL TRADE COMMISSION

[Investigation No. 337-TA-1087]

Certain Batteries and Electrochemical Devices Containing Composite Separators, Components Thereof, and Products Containing Same; Commission Determination Not To Review an Initial Determination Granting a Joint Motion To Terminate the Investigation Based Upon Settlement; Termination of the Investigation

AGENCY: U.S. International Trade Commission.

ACTION: Notice.

SUMMARY: Notice is hereby given that the U.S. International Trade Commission has determined not to review an initial determination (“ID”) (Order No. 42) of the presiding administrative law judge (“ALJ”) granting a joint motion to terminate the investigation based upon settlement. The investigation is terminated.

FOR FURTHER INFORMATION CONTACT: Houda Morad, Office of the General Counsel, U.S. International Trade Commission, 500 E Street SW, Washington, DC 20436, telephone (202) 708-4716. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on November 28, 2017, based on a complaint, as supplemented, filed by LG Chem, Ltd. of South Korea; LG Chem Michigan Inc. of Holland, Michigan; LG Chem Power Inc. of Troy, Michigan; and Toray Industries, Inc. of Japan. See 82 FR 56265 (Nov. 28, 2017). The complaint alleges violations of section 337 of the Tariff Act of 1930, as amended (19 U.S.C. 1337), based upon the importation into the United States, the sale for importation, and the sale within the United States after importation of certain batteries and electrochemical devices containing composite separators, components thereof, and products containing same, by reason of infringement of certain claims of U.S. Patent No. 7,662,517; U.S. Patent No. 7,638,241; and U.S. Patent No. 7,709,152. See id. The notice of investigation names Amperex Technology Limited of Hong Kong; DJI Technology Co., Ltd. of Shenzhen, China; DJI Technology, Inc. of Burbank, California; Guangdong OPPO Mobile, Telecommunications Corp., Ltd. of Guangdong, China; and OPPO Digital, Inc. of Menlo Park, California, as respondents in this investigation. See id. The Office of Unfair Import Investigations is not a party to this investigation. See id.

On January 30, 2019, the parties filed a joint motion to terminate the investigation based on settlement. On February 4, 2019, the ALJ issued the subject ID (Order No. 42) granting the joint motion. The ID finds that “[c]onsistent with Commission rule 210.21(b), the parties have filed confidential and public versions of the settlement agreement” and that “the parties state that `[t]here are no other agreements, written or oral, express or implied, between the parties concerning the subject matter of the Investigation.' ” See ID at 1-2 (citing 19 CFR 210.2l(b)(1)). The ID also considers the public interest under Commission Rule 210.50(b)(2), 19 CFR 210.50(b)(2), and finds “no evidence . . . indicating that terminating this investigation on the basis of settlement would adversely affect the public health and welfare, competitive conditions in the United States economy, the production of like or directly competitive articles in the United States, or United States consumers.” See ID at 2.

No petition for review of the subject ID was filed. The Commission has determined not to review the ID. The investigation is terminated.

The authority for the Commission's determination is contained in section 337 of the Tariff Act of 1930, as amended (19 U.S.C. 1337), and in part 210 of the Commission's Rules of Practice and Procedure (19 CFR part 210).

By order of the Commission.
Issued: February 21, 2019.
Lisa Barton,
Secretary to the Commission.

[FR Doc. 2019-03294 Filed 2-25-19; 8:45 am]

BILLING CODE 7020-02-P